DEPARTMENT OF COMMERCE

National Oceanic and Atmospheric Administration

50 CFR Part 660

[Docket No. 000831250-0250-01; 031901D]

Fisheries off West Coast States and in the Western Pacific; Coastal Pelagic Species Fisheries; Closure of Fishery for Pacific Mackerel

AGENCY: National Marine Fisheries Service (NMFS), National Oceanic and Atmospheric Administration (NOAA), Commerce.

ACTION: Closure of fishery for Pacific mackerel.

SUMMARY: NMFS announces the closure of the fishery for Pacific mackerel in the exclusive economic zone off the Pacific coast at 12 a.m. on March 27, 2001. The Coastal Pelagic Species Fishery Management Plan (FMP) and its implementing regulations require NMFS to set an annual harvest guideline for Pacific mackerel based on a formula in the FMP and to close the fishery when the harvest guideline is reached. The harvest guideline of 20,740 metric tons (mt) has been reached. Following this date no more than 1 mt of Pacific mackerel may be landed from any fishing trip. The effect of this action is to ensure conservation of the Pacific mackerel resource.

DATES: Effective at 12 a.m. on March 27, 2001 through June 30, 2001.

FOR FURTHER INFORMATION CONTACT: James J. Morgan, Southwest Region, NMFS, 562-980-4036.

SUPPLEMENTARY INFORMATION: On September 11, 2000, NMFS announced a harvest guideline for Pacific mackerel in the Federal Register (65 FR 54817) of 20,740 mt for the fishing season of July 1, 2000, through June 30, 2001. The harvest guideline was based on an annual biomass estimate and calculated by a formula in the FMP applying information on that portion of the stock in U.S. waters and the required harvest rate above a minimum biomass.

On October 27, 2000, (65 FR 65272, November 1, 2000), the directed fishery for Pacific mackerel was closed and an incidental landing of Pacific mackerel of 20 percent of the total weight of all coastal pelagic species was implemented. Subsequent changes to the incidental landing provision were published on November 17, 2000 (65 FR 69483), and February 22, 2001 (65 FR 11119).

As of March 12, 2001, 20,751 mt of Pacific mackerel has been harvested; therefore, the fishery must be closed.

For the reasons stated here and in accordance with the FMP and its regulations governing closure of the fishery, the fishery for Pacific mackerel will be closed at 12 a.m. on March 27, 2001, after which time no more than 1 mt of any landing may be Pacific mackerel.

Classification

This action is required by 50 CFR 660.509 and is exempt from review under Executive Order 12866.

Authority: 16 U.S.C. 1801 et seq.

Dated: March 27, 2001.
Bruce C. Morehead,
Acting Director, Office of Sustainable Fisheries, National Marine Fisheries Service.

[FR Doc. 01-7932 Filed 3-27-01; 2:54 pm]

BILLING CODE 3510-22-S